DEPARTMENT OF HEALTH AND HUMAN SERVICES

Centers for Medicare and Medicaid Services

[Document Identifier: CMS-10111 and CMS-R-263]

Agency Information Collection Activities: Proposed Collection; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New Collection; Title of Information Collection: Notice of Exclusions from Medicare Benefits-Home Health Agency and Supporting Regulations in 42 CFR 484.10; Form No.: CMS-10111 (OMB# 0938-NEW); Use: Whenever a Home Health Agency reduces or terminates home health services, the home health agency must give notice; Affected Public: Business or other for-profit, Individuals or Households, and Not-for-profit institutions; Number of Respondents: 6,813; Total Annual Responses: 534,295; Total Annual Hours: 534,429.5.

2. Type of Information Collection Request: Revision of a currently approved collection; Title of Information Collection: On-site Inspection for Durable Medicare Equipment (DME) Supplier Location and Supporting Regulations in 42 CFR, Section 424.57; Form No.: CMS-R-263 (OMB# 0938-0749); Use: CMS collects information on any supplier who submits bills to Medicare or who applies for a Medicare Billing Number before allowing the supplier to enroll. This information must minimally clearly identify the provider and its place of business as required in Pub. L. 99-272 Section 9202(g) and provide all necessary documentation to prove that they are qualified to perform the services for which they are billing. The on-site inspection for Durable Medical Equipment (DME) Supplier Location verifies this information; Affected Public: Business or other for-profit, Not-for-profit institutions, and State, Local, or Tribal Gov.; Number of Respondents: 20,000; Total Annual Responses: 20,000; Total Annual Hours: 10,000.

To obtain copies of the supporting statement and any related forms for the proposed paperwork collections referenced above, access CMS's Web site address at http://www.cms.hhs.gov/regulations/pra/, or E-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address:

CMS, Office of Strategic Operations and Regulatory Affairs, Division of Regulations Development and Issuances, Attention: Melissa Musotto, Room C5-14-03, 7500 Security Boulevard, Baltimore, Maryland 21244-1850.

Dated: June 8, 2004.
John P. Burke, III,
Paperwork Reduction Act Team Leader, Office of Strategic Operations and Strategic Affairs, Division of Regulations Development and Issuances.

[FR Doc. 04-13505 Filed 6-15-04; 8:45 am]

BILLING CODE 4120-03-P